DEPARTMENT OF ENERGY

Federal Energy Regulatory Commission

Notice of Effectiveness of Exempt Wholesale Generator Status

Willey Battery Utility, LLC | EG15-108-000
Little Elk Wind Project, LLC | EG15-109-000
Patriot Wind Farm, LLC | EG15-110-000
Chapman Ranch Wind I, LLC | EG15-111-000
Silver State Solar Power South, LLC | EG15-112-000
RE Garland LLC | EG15-113-000
RE Garland A LLC | EG15-114-000
Latigo Wind Park, LLC | EG15-116-000
Parrey, LLC | EG15-117-000
South Plains Wind Energy, LLC | EG15-118-000
PHR Holdings LLC | EG15-119-000
Golden West Power Partners, LLC | EG15-120-000

Take notice that during the month of October 2015, the status of the above-captioned entities as Exempt Wholesale Generators became effective by operation of the Commission's regulations. 18 CFR 366.7(a).

Dated: November 30, 2015.
Nathaniel J. Davis, Sr.,
Deputy Secretary.

[FR Doc. 2015-30699 Filed 12-4-15; 8:45 am]

BILLING CODE 6717-01-P